ENVIRONMENTAL PROTECTION AGENCY

40 CFR Part 52

[Docket No. EPA-R02-OAR-2008-0005; FRL-8562-1]

Approval and Promulgation of Implementation Plans; Revised PM2.5 Motor Vehicle Emissions Budgets; State of New Jersey

AGENCY: Environmental Protection Agency (EPA).

ACTION: Final rule.

SUMMARY: The Environmental Protection Agency (EPA) is approving a state implementation plan revision submitted by the State of New Jersey. This revision updates the 2009 PM2.5 motor vehicle emissions budgets for Mercer County (for direct PM2.5 and NOX, a precursor), located within the New Jersey portion of the New York-Northern New Jersey-Long Island, NY-NJ-CT, PM2.5 nonattainment area. The intended effect of this rulemaking is to approve budgets that will be used to determine transportation conformity.

DATES: This rule will be effective June 5, 2008.

ADDRESSES: Copies of the State submittals are available at the following addresses for inspection during normal business hours: Environmental Protection Agency, Region 2 Office, Air Programs Branch, 290 Broadway, 25th Floor, New York, New York 10007-1866.

New Jersey Department of Environmental Protection, Public Access Center, 401 East State Street, 1st Floor, Trenton, New Jersey 08625.

FOR FURTHER INFORMATION CONTACT: Matthew Laurita, laurita.matthew@epa.gov at the Environmental Protection Agency, Region 2 Office, Air Programs Branch, 290 Broadway, 25th Floor, New York, NY 10007-1866, telephone number (212) 637-3895, fax number (212) 637-3901.

SUPPLEMENTARY INFORMATION:

Table of Contents

I. Analysis of the State's Submittal

II. Comments on the Proposed Rulemaking

III. Final EPA Action

IV. Statutory and Executive Order Reviews

I. Analysis of the State's Submittal

On December 17, 2007, New Jersey submitted a proposed state implementation plan (SIP) revision to EPA updating the existing motor vehicle emissions budgets (“budgets”) for the Mercer County, New Jersey portion of the New York-Northern New Jersey-Long Island, NY-NJ-CT, PM2.5 nonattainment area (PM2.5 is composed of airborne particles generally less than or equal to 2.5 micrometers in diameter). At the time of the submittal, New Jersey requested that EPA parallel process the SIP revision. New Jersey subsequently held a public hearing on January 28, 2008, and accepted public comments until January 31, 2008. On February 25, 2008, New Jersey submitted a final SIP revision to EPA with no substantive changes from the December 17, 2007 submittal. For more information on New Jersey's December 17, 2007 submittal, please see EPA's March 5, 2008, Notice of Proposed Rulemaking (73 FR 11846).

When EPA approved New Jersey's initial PM2.5 budgets (71 FR 38770, July 10, 2006), we inadvertently did not revise 40 Code of Federal Regulations (CFR) part 52 to include the approved budgets. In this action we are updating 40 CFR part 52 to reflect both the July 10, 2006, final rulemaking and today's final rulemaking.

II. Comments on the Proposed Rulemaking

EPA proposed approval of New Jersey's SIP revision on March 5, 2008 (73 FR 11846). The comment period closed on April 4, 2008. EPA did not receive any comments.

III. Final EPA Action

EPA is approving revisions to the 2009 PM2.5 motor vehicle emissions budgets for Mercer County, New Jersey. The revised budgets are 108 tons per year for direct PM2.5 and 5,056 tons per year for NOX. These revised motor vehicle emissions budgets supersede the previous 2009 budgets and are to be used by the Delaware Valley Regional Planning Commission in making transportation conformity determinations on or after the effective date of this Final Rulemaking.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

List of Subjects in 40 CFR Part 52

Environmental protection, Air pollution control, Incorporation by reference, Intergovernmental relations, Nitrogen dioxide, Particulate matter, Reporting and recordkeeping requirements.

Dated: April 24, 2008.
Alan J. Steinberg,
Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1602 is added to read as follows:

§ 52.1602 Control strategy and regulations: PM2.5.

(a) Approval—On May 18, 2006, New Jersey submitted an early PM2.5 implementation plan to set motor vehicle emissions budgets for the New Jersey portion of the New York-Northern New Jersey-Long Island, NY-NJ-CT, PM2.5 nonattainment area. The budgets were allocated by metropolitan planning organization as follows: North Jersey Transportation Planning Authority: 1,207 tons per year of direct PM2.5 and 61,676 tons per year of NOX; Delaware Valley Regional Planning Commission: 89 tons per year of direct PM2.5 and 4,328 tons per year of NOX.

(b) Approval—On February 25, 2008, New Jersey submitted a revision to its early PM2.5 implementation plan to revise the motor vehicle emissions budgets for the Mercer County, New Jersey portion of the New York-Northern New Jersey-Long Island, NY-NJ-CT, PM2.5 nonattainment area. The revised budgets, applicable to the Delaware Valley Regional Planning Commission, are as follows: 108 tons per year of direct PM2.5 and 5,056 tons per year of NOX.

[FR Doc. E8-9819 Filed 5-5-08; 8:45 am]

BILLING CODE 6560-50-P